DEPARTMENT OF ENERGY

Federal Energy Regulatory Commission

Combined Notice of Filings #2

Take notice that the Commission received the following electric rate filings:

Docket Numbers: ER15-623-006.

Applicants: PJM Interconnection, L.L.C.

Description: Compliance filing: Second Compliance Filing per July 22, 2015 Order in Docket No. ER15-623 to be effective 7/22/2015.

Filed Date: 7/28/15.

Accession Number: 20150728-5167.

Comments Due: 5 p.m. ET 8/18/15.

Docket Numbers: ER15-2282-001.

Applicants: Sierra Pacific Power Company.

Description: Tariff Amendment: Volume No. 7 Market Based Rate Tariff Amendment to be effective 9/26/2015.

Filed Date: 7/28/15.

Accession Number: 20150728-5116.

Comments Due: 5 p.m. ET 8/18/15.

Docket Numbers: ER15-2288-000.

Applicants: PJM Interconnection, L.L.C.

Description: § 205(d) Rate Filing: Original WMPA Service Agreement No. 4233; Queue No. AB1-005 to be effective 7/22/2015.

Filed Date: 7/28/15.

Accession Number: 20150728-5133.

Comments Due: 5 p.m. ET 8/18/15.

Docket Numbers: ER15-2289-000.

Applicants: ISO New England Inc., Green Mountain Power Corporation.

Description: § 205(d) Rate Filing: ISO-NE and Green Mountain Power Corp. Small Gen. Interconnection Agreement to be effective 6/22/2015.

Filed Date: 7/28/15.

Accession Number: 20150728-5135.

Comments Due: 5 p.m. ET 8/18/15.

Docket Numbers: ER15-2290-000.

Applicants: PJM Interconnection, L.L.C.

Description: § 205(d) Rate Filing: 2nd Quarter 2015 Update to OA/RAA Membership Lists to be effective 6/30/2015.

Filed Date: 7/28/15.

Accession Number: 20150728-5141.

Comments Due: 5 p.m. ET 8/18/15.

Docket Numbers: ER15-2291-000.

Applicants: Southwest Power Pool, Inc.

Description: § 205(d) Rate Filing: Harlan Municipal Utilities Formula Rate to be effective 10/1/2015.

Filed Date: 7/28/15.

Accession Number: 20150728-5147.

Comments Due: 5 p.m. ET 8/18/15.

Docket Numbers: ER15-2292-000.

Applicants: Idaho Power Company.

Description: Application regarding transmission formula rate of Idaho Power Company.

Filed Date: 7/28/15.

Accession Number: 20150728-5152.

Comments Due: 5 p.m. ET 8/18/15.

Docket Numbers: ER15-2293-000.

Applicants: Fair Wind Power Partners, L.L.C.

Description: Baseline eTariff Filing: Fair Wind Power Partners LLC MBR Tariff Filing to be effective 9/27/2015.

Filed Date: 7/28/15.

Accession Number: 20150728-5179.

Comments Due: 5 p.m. ET 8/18/15.

Take notice that the Commission received the following land acquisition reports:

Docket Numbers: LA15-2-000.

Applicants: AV Solar Ranch 1, LLC, Baltimore Gas and Electric Company, Beebe 1B Renewable Energy, LLC, Beebe Renewable Energy, LLC, Calvert Cliffs Nuclear Power Plant, LLC, Cassia Gulch Wind Park LLC, CER Generation, LLC, Commonwealth Edison Company, Constellation Energy Commodities Group Maine, LLC, Constellation Energy Services of New York, Inc., Constellation Energy Services, Inc., Constellation Mystic Power, LLC, Constellation NewEnergy, Inc., Constellation Power Source Generation, LLC, Cow Branch Wind Power, L.L.C, Criterion Power Parnters, LLC, Exelon Framingham, LLC, Exelon Generation Company, LLC, Exelon New Boston, LLC, Exelon West Medway, LLC, Exelon Wind 4, LLC, Exelon Wyman, LLC, Fourmile Wind Energy, LLC, Handsome Lake Energy, LLC, Harvest WindFarm, LLC, Harvest II Windfarm, LLC, High Mesa Energy, LLC, Michigan Wind 1, LLC, Michigan Wind 2, LLC, Nine Mile Point Nuclear Station, LLC, PECO Energy Company, R.E. Ginna Nuclear Power Plant, LLC, Shooting Star Wind Project, LLC, Tuana Springs Energy, LLC, Wind Capital Holdings, LLC, Wildcat Wind, LLC, 2014 ESA Project Company, LLC

Description: Quarterly Land Acquisition Report of the Exelon MBR Entities, 2014 ESA Project Company, LLC, and 2015 ESA Project Company, LLC.

Filed Date: 7/28/15.

Accession Number: 20150728-5076.

Comments Due: 5 p.m. ET 8/18/15.

Docket Numbers: LA15-2-000.

Applicants: Astoria Generating Company, L.P., Big Sandy Peaker Plant, LLC, California Electric Marketing, LLC, Crete Energy Venture, LLC, CSOLAR IV South, LLC, CSOLAR IV West, LLC, High Desert Power Project LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC, Alabama Electric Marketing, LLC

Description: Quarterly Land Acquisition Report of Alabama Electric Marketing, LLC, L.P., et al.

Filed Date: 7/28/15.

Accession Number: 20150728-5150.

Comments Due: 5 p.m. ET 8/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

DATED: July 28, 2015.
Nathaniel J. Davis, Sr.,
Deputy Secretary.

[FR Doc. 2015-18964 Filed 7-31-15; 8:45 am]

BILLING CODE 6717-01-P